DEPARTMENT OF COMMERCE

National Oceanic and Atmospheric Administration

RIN 0648-XO41

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application contains all of the required information and warrants further consideration. This EFP would allow two commercial fishing vessels to temporarily retain undersize fish and fish in excess of possession limits for the purpose of data collection in support of research conducted by the University of Rhode Island (URI). The Assistant Regional Administrator has made a preliminary determination that the activities authorized under this EFP would be consistent with the goals and objectives of the Summer Flounder, Scup, and Black Sea Bass Fishery Management Plan (FMP). However, further review and consultation may be necessary before a final determination is made to issue an EFP. Therefore, NMFS announces that the Assistant Regional Administrator proposes to recommend that an EFP be issued.

Regulations under the Magnuson-Stevens Fishery Conservation and Management Act require publication of this notification to provide interested parties the opportunity to comment on applications for proposed EFPs.

DATES: Comments must be received on or before April 27, 2009.

ADDRESSES: You may submit written comments by any of the following methods:

• Email: DA9-087@noaa.gov. Include in the subject line “Comments on URI TED EFP.”

• Mail: Patricia A. Kurkul, Regional Administrator, NMFS, NE Regional Office, 55 Great Republic Drive, Gloucester, MA 01930. Mark the outside of the envelope “Comments on URI TED EFP.”

• Fax: (978) 281-9135.

FOR FURTHER INFORMATION CONTACT: Ryan Silva, Cooperative Research Liaison, 978-281-9326.

SUPPLEMENTARY INFORMATION: Under the Southern New England Collaborative Research Initiative, URI was selected by the Commercial Fisheries Research Foundation to conduct a study titled, “Evaluation of a Modified Turtle Excluder Device (TED) Design in the Southern New England and Mid-Atlantic Summer Trawl Fisheries.” The primary objective of this experiment is to evaluate the catch performance of a summer flounder trawl fitted with a TED. This objective would be accomplished through comparative tows between two summer flounder trawls, one of which has the experimental TED.

URI proposes to employ two commercial vessels that operate in the summer flounder fishery to conduct this research. Investigators propose to conduct approximately 80, 90-minute tows (40 paired tows) in the New England and Mid-Atlantic regions over the course of 22 sea days in the summer of 2009, starting in early June. Investigators would collect data on estimated total catch weight, and weight and length measurements on summer flounder and other bycatch species. All legal catch would be sold.

URI submitted a complete EFP application on March 26, 2009, requesting exemption from minimum fish size and possession limit regulations for the purpose of data collection prior to discarding undersize fish and fish above the vessel's possession limit. Aside from these exemptions, all other elements of these fishing trips would comply with fishing regulations.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited. If the research project is terminated for any reason prior to completion, any unused funds collected from catch sold to pay for research expenses may be refunded to NOAA.

Authority: 16 U.S.C. 1801 et seq.

Dated: April 3, 2009.
Kristen C. Koch,
Acting Director, Office of Sustainable Fisheries, National Marine Fisheries Service.

[FR Doc. E9-8236 Filed 4-9-09; 8:45 am]

BILLING CODE 3510-22-S